DEPARTMENT OF TRANSPORTATION

Pipeline and Hazardous Materials Safety Administration

[Docket No. PHMSA-2011-0122, Notice No. 11-4]

Safety Advisory; Unauthorized Marking of Compressed Gas Cylinders

AGENCY: Pipeline and Hazardous Materials Safety Administration (PHMSA), DOT.

ACTION: Safety Advisory Notice.

SUMMARY: This notice advises the public that PHMSA has recently confirmed an undetermined number of certain (aluminum) cylinders were improperly marked and represented as DOT specification 3AL cylinders. The cylinders were neither marked nor certified by an authorized independent inspection agency (IIA) with its official mark and date, in accordance with the applicable regulatory requirements. Therefore, the cylinders are unauthorized for hazardous materials service. Prior to filling these cylinders, a person must verify that the IIA's official mark is stamped between the month and year manufactured. The evidence suggests that if the cylinder is marked with a period (.) rather than the official IIA mark, the cylinder did not undergo the complete series of safety tests and inspections required by the Hazardous Materials Regulations (HMR) and may not possess the structural integrity to safely contain its contents under pressure during normal transportation and use. Extensive property damage, serious personal injury, or death could result from a rupture of the cylinder. Individuals who identify a cylinder marked with only a period (.) between the month and year are advised to remove these cylinders from service and contact PHMSA directly at the below address for further instructions.

FOR FURTHER INFORMATION CONTACT: Ms. Yuying Chen, U.S. Agent for Shanghai Qingpu Fire Fighting Equipment Company, Ltd., 1005 Mirror Street, Pittsburgh, PA 15217, Telephone (412) 235-7880, E-mail: yvonnechan2001@yahoo.com.

SUPPLEMENTARY INFORMATION: An undetermined number of the cylinders (typically used for home kegerators), were manufactured between 2009 through 2011 and improperly marked with the manufacturer's symbol “M0306.” The cylinders have been stamped with a period (.) between the month and year of manufacture, i.e., “8.10.” PHMSA issued the manufacturing symbol “M0306” to Shanghai Qingpu Fire Fighting Equipment Company, Ltd. (Qingpu), located in Shanghai, China. Arrowhead Industrial Services, Inc. (Arrowhead), as Qingpu's authorized independent inspection agency, would have marked the cylinders that passed inspection with its official mark (the letter “A” inside of an arrowhead) between the month and year of manufacture.

Prior to filling these cylinders, a person must verify that Arrowhead's official mark is stamped between the month and year manufactured. Arrowhead does not use a period (.) between the month and year of manufacturing as part of its official mark.

If the cylinder is identified as marked with a period (.) between the month and year, in lieu of the authorized Arrowhead mark, the person in possession of the cylinder is advised to remove that cylinder from service and contact Qingpu's U.S. Agent at the address in this notice.

Issued in Washington, DC, on June 1, 2011.
Magdy El-Sibaie,
Associate Administrator for Hazardous Materials Safety.

[FR Doc. 2011-13952 Filed 6-6-11; 8:45 am]

BILLING CODE 4910-60-P